INTERNATIONAL TRADE COMMISSION

[Investigation No. 337-TA-1279]

Certain Flocked Swabs, Products Containing Flocked Swabs, and Methods of Using Same; Notice of Institution of Investigation

AGENCY: U.S. International Trade Commission.

ACTION: Notice.

SUMMARY: Notice is hereby given that a complaint was filed with the U.S. International Trade Commission on July 9, 2021, under section 337 of the Tariff Act of 1930, as amended, on behalf of Copan Italia S.p.A. of Brescia, Italy and Copan Industries, Inc. of Aguadilla, Puerto Rico. Supplements to the Complaint were filed on August 16, 2021, August 19, 2021, and August 20, 2021. The complaint, as supplemented, alleges violations of section 337 based upon the importation into the United States, the sale for importation, and the sale within the United States after importation of certain flocked swabs, products containing flocked swabs, and methods of using same by reason of infringement of certain claims of U.S. Patent No. 9,011,358 (“the '358 Patent”); U.S. Patent No. 9,173,779 (“the '779 Patent”); and U.S. Patent No. 10,327,741 (“the '741 Patent”). The complaint further alleges that an industry in the United States exists as required by the applicable Federal Statute. The complainants request that the Commission institute an investigation and, after the investigation, issue a general exclusion order, or in the alternative a limited exclusion order, and cease and desist orders.

ADDRESSES: The complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Pathenia M. Proctor, The Office of Unfair Import Investigations, U.S. International Trade Commission, telephone (202) 205-2560.

SUPPLEMENTARY INFORMATION: Authority: The authority for institution of this investigation is contained in section 337 of the Tariff Act of 1930, as amended, 19 U.S.C. 1337, and in section 210.10 of the Commission's Rules of Practice and Procedure, 19 CFR 210.10 (2020).

Scope of Investigation: Having considered the complaint, the U.S. International Trade Commission, on August 27, 2021, ordered that—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claims 1, 6-9, 11-14, 16-19, and 21-22 of the '358 patent; claims 1, 4-6, 8, 9, 11-13, 16-20, and 22-24 of the '779 patent; and claims 1, 3, 5, 7-10, 18, and 20 of the '741 patent; and whether an industry in the United States exists as required by subsection (a)(2) of section 337;

(2) Pursuant to section 210.10(b)(1) of the Commission's Rules of Practice and Procedure, 19 CFR 210.10(b)(1), the plain language description of the accused products or category of accused products, which defines the scope of the investigation, is “flocked swabs, such as nasopharyngeal swabs, and kits containing flocked swabs, that are used in the collection, sampling, or testing of and for infectious diseases such as influenza, SARS-CoV-2 (the coronavirus that causes COVID-19), and other diseases”;

(3) Pursuant to Commission Rule 210.50(b)(1), 19 CFR 210.50(b)(1), the presiding administrative law judge shall take evidence or other information and hear arguments from the parties and other interested persons with respect to the public interest in this investigation, as appropriate, and provide the Commission with findings of fact and a recommended determination on this issue, which shall be limited to the statutory public interest factors set forth in 19 U.S.C. 1337(d)(1), (f)(1), (g)(1);

(4) For the purpose of the investigation so instituted, the following are hereby named as parties upon which this notice of investigation shall be served:

(a) The complainants are:

Copan Italia S.p.A., Via F. Perotti 10, 25125, Brescia, Italy

Copan Industries, Inc., 1068 Ave. General Ramey, #789 San Antonio, Puerto Rico 00690

(b) The respondents are the following entities alleged to be in violation of section 337, and are the parties upon which the complaint is to be served:

Han Chang Medic, 79-35 Jangsan 2-Gil, Susin-Myeon, Dongnam-Gu, Cheonan, Chungnam, 31252, Republic of Korea

Wuxi NEST Biotechnology Co., Ltd., No. 530, Xida Road, Meicun Industrial Park, Xinwu District, Wuxi, Jiangsu, 214112, China

NEST Scientific Inc., 1592 Hart St Unit 12, Rahway, NJ 07065-5519

NEST Scientific USA, 1592 Hart St Unit 12, Rahway, NJ 07065-5519

Miraclean Technology Co., Ltd., 301, Bldg. A, No. 18 Factory Building, Rongshuxa Industrial Zone, Tongxin Community, Baolong Str., Longgang Dist., Shenzhen, Guangdong, 518116, China

Vectornate Korea Ltd., 56 Nanosandan 2-ro, Jinwon-myeon, Jangseong, Jeonnam, 57247, Republic of Korea

Vectornate USA, Inc., 10 Industrial Ave Ste 4, Mahwah, NJ 07430-2284

Innovative Product Brands, Inc., 7045 Palm Avenue, Highland, CA 92346-3291

Thomas Scientific, Inc., 1654 High Hill Rd, Swedesboro, NJ 08085-1780

Thomas Scientific, LLC, 1654 High Hill Rd, Swedesboro, NJ 08085-1780

Stellar Scientific, LLC, 40 New Plant Ct, Owings Mills, MD 21117-4356

Cardinal Health, Inc., 7000 Cardinal Pl, Dublin, OH 43017-1091

Ksl Biomedical, Inc., 1000 Youngs Rd Ste 210, Williamsville, NY 14221-2644

Ksl Diagnostics, Inc., 1000 Youngs Rd Ste 207, Williamsville, NY 14221-2644

Jiangsu Changfeng Medical Industry Co., Ltd., Seat of Touqiao Town, Guangling District, Yangzhou, Jiangsu, 225108, China

No Borders Dental Resources, Inc., dba MediDent Supplies, 18716 E Old Beau Trl, Queen Creek, AZ 85142-3522

BioTeke Corporation (Wuxi) Co., Ltd., 4th Floor-A, D5, No. 1719, Huishan Avenue, Wuxi, Jiangsu, 214174, China

Fosun Pharma USA Inc., 104 Carnegie Ctr Ste 204, Princeton, NJ 08540-6232

Hunan Runmei Gene Technology Co., Ltd., Room 401, Building No. 3 in ChangSha Medical and Health Industrial Park, No. 1048 Zhong Qing Road, Kai Fu District, Changsha, Hunan, 410153, China

VWR International, LLC, 100 W Matsonford Rd Ste 1, Radnor, PA 19087-4565

Slmp, LLC dba StatLab Medical Products, 2090 Commerce Dr., McKinney, TX 75069-8203

(c) The Office of Unfair Import Investigations, U.S. International Trade Commission, 500 E Street SW, Suite 401, Washington, DC 20436; and

(5) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), as amended in 85 FR 15798 (March 19, 2020), such responses will be considered by the Commission if received not later than 20 days after the date of service by the complainants of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: August 27, 2021.
Katherine Hiner,
Supervisory Attorney.

[FR Doc. 2021-18932 Filed 9-1-21; 8:45 am]

BILLING CODE 7020-02-P